DEPARTMENT OF AGRICULTURE

Rural Utilities Service

Notice of Public Meeting on Rural Broadband Access; Correction

AGENCY: Rural Utilities Service, USDA.

ACTION: Correction to notice.

Correction

In notice document 02-14682, beginning on page 40268 in the issue of Wednesday, June 12, 2002, make the following corrections:

On page 40268, in the third column, under the eighth paragraph, fifth line, the correct facsimile number is (202) 720-0810, and on the sixth line, the correct e-mail address is bpurcell@rus.usda.gov.

Dated: June 13, 2002.
Roberta D. Purcell,
Assistant Administrator, Telecommunications Program, Rural Utilities Service.

[FR Doc. 02-15487 Filed 6-18-02; 8:45 am]

BILLING CODE 3410-15-P